DEPARTMENT OF THE INTERIOR

Fish and Wildlife Service

Creating the Coldwater River National Wildlife Refuge, Mississippi

AGENCY: Fish and Wildlife Service, Interior.

ACTION: Notice.

SUMMARY: The Director of the U.S. Fish and Wildlife Service approved creating the Coldwater River National Wildlife Refuge (NWR) from the existing Black Bayou Unit of the Tallahatchie National Wildlife Refuge in Grenada, Quitman, and Tallahatchie Counties, Mississippi, to eliminate public confusion and to assist in the Service's administration and management activities. No other changes are proposed.

DATES: This action was effective on January 30, 2001.

FOR FURTHER INFORMATION CONTACT: Steve Thompson, Regional Chief, National Wildlife Refuge System, in Atlanta, Georgia, 404-679-7152.

SUPPLEMENTARY INFORMATION: On January 30, 2001, the Director of the U.S. Fish and Wildlife Service approved creating the Coldwater River NWR from the existing Black Bayou Unit of the Tallahatchie National Wildlife Refuge in Grenada, Quitman and Tallahatchie Counties, Mississippi, to eliminate public confusion and to assist in the Service's administration and management activities.

The Tallahatchie National Wildlife Refuge was established in 1991 with the acquisition of two separate units—the Bear Lake Unit and the Black Bayou Unit. The two units are located in a rural area about 30 miles apart, with a total work area that spreads across approximately 126 miles.

Previously we jointly administered these units, even though they had different public use programs, geographic work areas, and habitat management needs that resulted in significantly different goals and objectives for each unit. Joint administration made our biological assessments, public use reviews and the comprehensive conservation planning process more difficult and complex.

For example, because it is surrounded by lands owned or leased for waterfowl hunting, the Coldwater River NWR (formerly the Black Bayou Unit of the Tallahatchie NWR) is intensively managed and is closed to public access. The Bear Lake Unit is larger and is open for public hunting. However, the similarity of names and closeness in proximity of the two units often resulted in confusion to the public.

Establishing the Coldwater River NWR from the existing Black Bayou Unit of the Tallahatchie NWR eliminates these problems. This action will allow the lands and programs of both the Tallahatchie NWR (Bear Lake Unit) and the Coldwater River NWR to be managed and administered more efficiently, will identify the two units by their major geographical features (the Tallahatchie River and the Coldwater River), and should eliminate confusion when we inform the public of our management activities on each refuge.

Authority: National Wildlife Refuge Administration Act of 1966, as amended (16 U.S.C. 668dd-ee).

Dated: January 30, 2001.
Marshall P. Jones, Jr.,
Acting Director, U.S. Fish and Wildlife Service.

[FR Doc. 01-10142 Filed 4-23-01; 8:45 am]

BILLING CODE 4310-55-P